FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments received are subject to public disclosure. In general, comments received will be made available without change and will not be modified to remove personal or business information including confidential, contact, or other identifying information. Comments should not include any information such as confidential information that would not be appropriate for public disclosure.

Comments regarding each of these applications must be received at the Reserve Bank indicated or the offices of the Board of Governors, Benjamin W. McDonough, Deputy Secretary of the Board, 20th Street and Constitution Avenue NW, Washington, DC 20551-0001, not later than January 7, 2026.

A. Federal Reserve Bank of Atlanta (Erien O. Terry, Assistant Vice President) 1000 Peachtree Street NE, Atlanta, Georgia 30309. Comments can also be sent electronically to Applications.Comments@atl.frb.org:

1. Delmar A. Benton, Sharon Benton, Sara Jane Frerichs, and BD and Merle Benton Trust, Delmar A. Benton as trustee, all of Madisonville, Tennessee; Darrell A. Benton, Meghan N. Benton, Elizabeth Sharon Benton, Sally Suzanne Benton, and Nancy F. Garza, all of Maryville, Tennessee; to form the Benton Family Control Group, a group acting in concert, to retain voting shares of Peoples Bancshares, of TN, Inc., and thereby indirectly retain voting shares of Peoples Bank of East Tennessee, both of Madisonville, Tennessee.

B. Federal Reserve Bank of Kansas City (Jeffrey Imgarten, Assistant Vice President) 1 Memorial Drive, Kansas City, Missouri 64198-0001. Comments can also be sent electronically to KCApplicationComments@kc.frb.org:

1. Adam Duston Rainbolt Trust I; Jacob Patrick Rainbolt Trust I; and Samuel Johnson Rainbolt Trust I, all of Oklahoma City, Oklahoma; David E. Rainbolt as trustee and trust supervisor, and Dana Kim Rainbolt as trust supervisor, all of Oklahoma City, Oklahoma; Dana Kim Rainbolt Revocable Trust, Oklahoma City, Oklahoma, David E. Rainbolt and Dana Kim Rainbolt as co-trustees and trust supervisors, Samuel Johnson Rainbolt and Jacob Patrick Rainbolt as trust supervisors, all of Oklahoma City, Oklahoma; to become members of the Rainbolt Family Control Group, a group acting in concert, to retain voting shares of BancFirst Corporation, Oklahoma City, Oklahoma, and thereby indirectly retain voting shares of BancFirst, Oklahoma City, Oklahoma; Pegasus Bank, Dallas, Texas; Worthington Bank, Arlington, Texas; and American Bank of Oklahoma, Collinsville, Oklahoma.

Board of Governors of the Federal Reserve System.
Michele Taylor Fennell,
Associate Secretary of the Board.

[FR Doc. 2025-23715 Filed 12-22-25; 8:45 am]

BILLING CODE 6210-01-P